DEPARTMENT OF THE INTERIOR

Fish and Wildlife Service

Receipt of Application for Endangered Species Permit

AGENCY: Fish and Wildlife Service, Interior

ACTION: Notice of receipt of application for endangered species permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to victoria—davis@fws.gov. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

DATES: Written data or comments on these applications must be received, at the address given below, by October 26, 2001.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: Applicant: Jack Kilgore, U.S. Army Corps of Engineers, Vicksburg, Mississippi, TE045109-0

The applicant requests authorization to take (capture, hold temporarily, identify, anesthetize, take the two most anterior pectoral fin rays and associated tissue, floy tag, PIT tag, and stomach flush) the pallid sturgeon (Scaphirhynchus albus) from the Lower Mississippi River (from the mouth of the Missouri River to the mouth of the Mississippi River). Little information exists on pallid sturgeons in the Lower Mississippi River, which hampers recovery efforts and river management decisions. Consequently, a multi-year field study in the Lower Mississippi River is being developed by the Corps of Engineers, in cooperation with the U.S. Fish and Wildlife Service, to quantify habitat preferences and life history characteristics of the pallid sturgeon. The objectives of the study are to evaluate habitat preferences by life stage and season; quantify mortality, density, age, and growth; and to evaluate diet and food preferences.

Applicant: Heather Garland, The Nature Conservancy of Tennessee, TE045107-0

The applicant requests authorization to take (survey, capture, identify, measure, and release) gray bat (Myotis grisescens), Indiana bat (Myotis sodalis), and Virginia big-eared bat (Corynorhinus townsendii virginianus) to survey and determine significant summer bat roost caves, to survey protected summer roost sites in order to determine population numbers as well as confirm colony type (maternity or bachelor, in the case of the gray bat), and to survey forested areas and bottomland hardwood areas for bat species usage. The proposed activities will take place at cave sites and forests across Tennessee and in bottomland hardwood forests around the Hatchie River.

Applicant: James E. Pilgreen, Carrollton, Mississippi, TE047127-0

The applicant requests authorization to take (survey, capture, band nestlings, mark nests) the Alabama beach mouse (Peromyscus polionotus ammobates) and the Perdido Key beach mouse (Peromyscus polionotus trissylepsis) to conduct surveys to determine the presence of beach mice on areas with existing incidental take permits. The activities will take place in Baldwin County, Alabama.

Applicant: Michelle Caviness, Ozark National Forest Service, Boston Mountain District, Fayetteville, Arkansas, TE047123-0

The applicant requests authorization to take (survey, capture, identify, measure, band, and release) the gray bat (Myotis grisescens), Indiana bat (Myotis sodalis), and Ozark big-eared bat (Corynorhinus townsendii ingens) to determine the presence and the diversity of the population. The proposed activities will take place over water sources on the Ozark-Saint Francis National Forests and the Ouachita National Forest in Arkansas.

Applicant: Rex Roberg, Roberg Environmental Consulting Services, Inc., Cabot, Arkansas, TE047483-0

The applicant requests authorization to take (survey, capture, clip elytron, relocate, and release) the American burying beetle (Nicrophorus americanus) to determine presence and to relocate any found during the construction phase of the municipal Class I Solid Waste Landfill facilities for the City of Fort Smith. The proposed activities will take place in Crawford and Sebastian Counties, Arkansas.

Dated: September 13, 2001.
Sam D. Hamilton,
Regional Director.

[FR Doc. 01-24038 Filed 9-25-01; 8:45 am]

BILLING CODE 4310-55-P